DEPARTMENT OF HEALTH AND HUMAN SERVICES

Food and Drug Administration

[Docket No. 2003N-0234]

Canned Asparagus Deviating From Identity Standard; Temporary Permit for Market Testing

AGENCY: Food and Drug Administration, HHS.

ACTION: Notice.

SUMMARY: The Food and Drug Administration (FDA) is announcing that a temporary permit has been issued to Chiquita Processed Foods, LLC, and Crown Cork & Seal Co., to market test a product designated as “VERI-GREEN Cut Asparagus Spears” that deviates from the U.S. standard of identity for canned asparagus. The purpose of the temporary permit is to allow the applicant to measure consumer acceptance of the food.

DATES: This permit is effective for 15 months, beginning on the date the test product is introduced or caused to be introduced into interstate commerce, but no later than September 16, 2003.

FOR FURTHER INFORMATION CONTACT: Catalina Ferre-Hockensmith, Center for Food Safety and Applied Nutrition (HFS-820), Food and Drug Administration, 5100 Paint Branch Pkwy., College Park, MD 20740, 301-436-2371.

SUPPLEMENTARY INFORMATION: In accordance with 21 CFR 130.17 concerning temporary permits to facilitate market testing of foods deviating from the requirements of the standards of identity issued under section 401 of the Federal Food, Drug, and Cosmetic Act (21 U.S.C. 341), FDA is giving notice that a temporary permit has been issued to Chiquita Processed Foods, LLC, P.O. Box 458, Walla Walla, WA 99362, and to Crown Cork & Seal Co., 11535 South Central Ave., Alsip, IL 60803.

The permit covers limited interstate marketing tests of a product designated as “VERI-GREEN Cut Asparagus Spears” that deviates from the U.S. standard of identity for canned asparagus (21 CFR 155.200) in that the test product will contain added zinc chloride and stannous chloride at a maximum level of 75 parts per million (ppm) of zinc and 35 ppm of stannous chloride in the finished food. The test product meets all requirements of the standard with the exception of the variation. The purpose of the variance is to test the use of added zinc chloride and stannous chloride to retain the green color of the food and fresh taste.

The permit provides for the temporary marketing of 387,192 pounds (lb) of the test product (175,200 kilograms (kg)) (10,000 cases, each containing 6 lb, 7 ounce (2.92 kg) cans). The product will be manufactured at Chiquita Processed Foods, LLC, 516 West Rose, Walla Walla, WA 99362. The product will be distributed in the United States.

For the purpose of the permit, the name of the product is “VERI-GREEN Cut Asparagus Spears.” Each of the ingredients used in the food must be declared on the label as required by the applicable sections of 21 CFR parts 101 and 130. The permit is effective for 15 months, beginning on the date the test product is introduced or caused to be introduced into interstate commerce, but not later than September 16, 2003.

Dated: June 10, 2003.
Jeffrey Shuren,
Assistant Commissioner for Policy.

[FR Doc. 03-15403 Filed 6-17-03; 8:45 am]

BILLING CODE 4160-01-S